DEPARTMENT OF ENERGY

Federal Energy Regulatory Commission

[Project No. 11512-000 Oregon]

John Bigelow; Notice of Availability of Final Environmental Assessment

January 27, 2000.

In accordance with the National Environmental Policy Act of 1969 and the Federal Energy Regulatory Commission's (Commission) regulations, 18 CFR Part 380 (Order No. 486, 52 FR 47897), the Office of Hydropower Licensing has reviewed the application for a new license for the existing McKenzie Hydroelectric Project. The project is located on the McKenzie River, in Lane County, Oregon.

On July 10, 1998, the Commission staff issued a draft environmental assessment (DEA) for the project and requested that comments be filed with the Commission within 45 days. Comments on the DEA were filed by two entities and are addressed in the final environmental assessment (FEA) for the project.

The FEA contains the staff's analysis of the potential environmental impacts of the project and concludes that licensing the project, with appropriate environmental protective measures, would not constitute a major federal action that would significantly affect the quality of the human environment.

Copies of the FEA are available for review in the Public Reference Room, Room 2A, of the Commission's offices at 888 First Street NE, Washington, DC 20426. This filing may also be viewed on the web at http://www.ferc.fed.us/online/rims.htm (please call (202) 208-2222 for assistance).

David P. Boergers,
Secretary.

[FR Doc. 00-2190 Filed 2-1-00; 8:45 am]

BILLING CODE 6717-01-M